DEPARTMENT OF EDUCATION

Foreign Institutions—Federal Student Aid Programs

AGENCY: Office of Postsecondary Education, Department of Education.

ACTION: Announcement of submission date for calendar year 2010 U.S. Medical Licensing Examination (USMLE) and citizenship data by foreign graduate medical schools participating in the Title IV, HEA programs.

SUMMARY: We announce the submission date for the required submission to the Secretary by foreign graduate medical schools that participate in programs authorized under title IV of the Higher Education Act of 1965, as amended (the Title IV, HEA programs), of their students' scores on the U.S. Medical Licensing Examination (USMLE), and the school's citizenship rate (i.e., the percentage of its students and recent graduates who are not U.S. citizens, nationals, or eligible permanent residents) for calendar year 2010. Foreign graduate medical schools must submit scores on the USMLE, earned during calendar year 2010 by each student and recent graduate, on Step 1, Step 2—Clinical Skills (Step 2-CS), and Step 2—Clinical Knowledge (Step 2-CK), together with the dates the student has taken each test, including any failed tests. In addition, unless they are statutorily exempt, foreign graduate medical schools must submit a statement of the foreign graduate medical school's citizenship rate for 2010, together with a description of the methodology used in deriving the rate.

DATES: Submission to the Secretary of scores on the USMLE and the statement of an institution's citizenship rate for the 2010 calendar year must be made no later than September 30, 2011.

FOR FURTHER INFORMATION CONTACT: For information contact: Wendy Macias, U.S. Department of Education, 1990 K Street, NW., room 8017, Washington, DC 20006. Telephone: (202) 502-7526. You may also e-mail your questions to: Wendy.Macias@ed.gov.

If you use a telecommunications device for the deaf (TDD), call the Federal Relay Service (FRS), toll free, at 1-800-877-8339.

Individuals with disabilities can obtain this document in an accessible format (e.g., braille, large print, audiotape, or computer diskette) by contacting the person responsible for providing further information.

SUPPLEMENTARY INFORMATION: On November 1, 2010, the Department of Education (Department) published final regulations that included amendments to 34 CFR 600.55(d), which became effective on July 20, 2011 (75 FR 67170). Under 34 CFR 600.55(d), a foreign graduate medical school must submit the following data to the identified entities, including the Department, no later than April 30 of each year, unless the Secretary specifies a different date through a notice in the Federal Register:

(1) To its accrediting authority and, on request, to the Secretary, the scores on the Medical College Admission Test (MCAT) or successor examination, of all students admitted during the preceding calendar year who are U.S. citizens, nationals, or eligible permanent residents, together with a statement of the number of times each student took the examination.

(2) To its accrediting authority and, on request, to the Secretary, the percentage of students graduating during the preceding calendar year (including at least all graduates who are U.S. citizens, nationals, or eligible permanent residents) who obtain placement in an accredited U.S. medical residency program.

(3) To the Secretary, all scores, calculated in accordance with 34 CFR 600.55(f), disaggregated by step/test—i.e., Step 1, Step 2—Clinical Skills (Step 2-CS), and Step 2—Clinical Knowledge (Step 2-CK), or the successor examinations—and attempt, earned during the preceding calendar year by each student and graduate on Step 1, Step 2-CS, and Step 2-CK, or the successor examinations, of the U.S. Medical Licensing Examination (USMLE), together with the dates the student has taken each test, including any failed tests (an institution may instead agree to allow the Educational Commission for Foreign Medical Graduates (ECFMG) or other responsible third party to calculate the rate and provide it directly to the Secretary, if such an option is available).

(4) To the Secretary, a statement of its citizenship rate for the preceding calendar year, calculated in accordance with 34 CFR 600.55(f)(1)(i)(A), together with a description of the methodology used in deriving the rate that is acceptable to the Secretary, unless the institution meets the statutory exemption from meeting the 60 percent citizenship threshold.

The Secretary is announcing in this notice a September 30, 2011, date for the submission to the Secretary of scores on the USMLE and the statement of an institution's citizenship rate for the 2010 calendar year. The Department will send a letter to foreign graduate medical schools providing information regarding the method of submission of the 2010 scores on the USMLE and the citizenship rate information.

The first submission of MCAT and residency placement data will be for data from the 2011 calendar year. For calendar year 2011 and subsequent calendar years, the submission date for USMLE scores and the statement of an institution's citizenship rate, as well as MCAT and residency placement data, is April 30 of the subsequent year, unless the Secretary specifies a different date through a notice in the Federal Register.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: http://www.federalregister.gov. Specifically, through the advanced search feature at this site, you can limit your search to documents published by the Department.

Program Authority: 20 U.S.C. 1098a.

Dated: July 26, 2011.
Eduardo M. Ochoa,
Assistant Secretary for Postsecondary Education.

[FR Doc. 2011-19265 Filed 7-28-11; 8:45 am]

BILLING CODE 4000-01-P